SECURITIES AND EXCHANGE COMMISSION

[File No. 500-1]

8000, Inc.; Order of Suspension of Trading

November 4, 2010.

It appears to the Securities and Exchange Commission that there is a lack of current and accurate information concerning the securities of 8000, Inc. because of questions regarding the accuracy of statements made by 8000, Inc. in press releases concerning, among other things, a cash dividend the company announced it would pay stockholders and Monk's Den, an investment program and online investor network the company disclosed it acquired in September 2010.

The Commission is of the opinion that the public interest and the protection of investors require a suspension of trading in the securities of 8000, Inc.

Therefore, it is ordered, pursuant to Section 12(k) of the Securities Exchange Act of 1934, that trading in the securities of the above-listed company is suspended for the period from 9:30 a.m. EDT on November 4, 2010, through 11:59 p.m. EST on November 17, 2010.

By the Commission.
Jill M. Peterson,
Assistant Secretary.

[FR Doc. 2010-28241 Filed 11-4-10; 4:15 pm]

BILLING CODE 8011-01-P